DEPARTMENT OF HEALTH AND HUMAN SERVICES

Centers for Disease Control and Prevention

Board of Scientific Counselors, National Center for Injury Prevention and Control, (BSC, NCIPC)

In accordance with Section 10(a)(2) of the Federal Advisory Committee Act (Pub. L. 92-463), the Centers for Disease Control and Prevention (CDC) announces, the following meeting of the aforementioned committee:

Time and Date: 9:00 a.m.-1:00 p.m., January 7, 2016 (OPEN).

Place: Teleconference Dial-In Number: 1-888-395-7561, Participant Code: 3954121.

Status: The meeting as designated above will be open to the public.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury.

The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters for Discussion: The Board of Scientific Counselors will discuss the background for development of the CDC Guideline for Prescribing Opioids for Chronic Pain (Guideline) and the formation of the Prescribing Opioids for Chronic Pain Workgroup (Opioid Guideline Workgroup). We will be accepting public comments only related to the formation of the Opioid Guideline Workgroup. There will be 30 minutes allotted for public comments at the end of the session. All public comments will be limited to two-minutes per speaker.

CDC is also publishing a related notice in today's Federal Register announcing the opening of a public comment period on the Guideline itself. Individuals are given 30 days to provide comments on the Guideline. Please see instructions in that notice about providing comment.

Agenda items are subject to change as priorities dictate.

Contact Person for More Information: Arlene Greenspan, Dr. P.H, M.P.H., P.T., Associate Director for Science, NCIPC, CDC, 4770 Buford Highway NE., Mailstop F-63, Atlanta, Georgia 30341, Telephone (770) 488-4696.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-31367 Filed 12-11-15; 8:45 am]

BILLING CODE 4163-18-P